DEPARTMENT OF ENERGY

Federal Energy Regulatory Commission

Combined Notice of Filings # 1

September 17, 2010.

Take notice that the Commission received the following electric rate filings:

Docket Numbers: ER06-739-027; ER06-738-027; ER03-983-027; ER07-501-027; ER02-537-030; ER08-649-020; ER07-758-023.

Applicants: Cogen Technologies Linden Venture, L.P., Fox Energy Company LLC, Birchwood Power Partners, L.P., Shady Hills Power Company, L.L.C., East Coast Power Liden Holding, LLC, EFS Parlin Holdings, LLC, Inland Empire Energy Center, LLC.

Description: Notice of Non-Material Change in Status and Request for Waiver of the GE Companies.

Filed Date: 09/16/2010.

Accesstion Number: 20100916-5164.

Comment Date: 5 p.m. Eastern Time on Thursday, October 7, 2010.

Docket Numbers: ER10-2662-000.

Applicants: MidAmerican Energy Company.

Description: MidAmerican Energy Company submits an Amended and Restated Services Agreement for Substation Operator Services etc. with Cordova Energy Center LLC.

Filed Date: 09/15/2010.

Accesstion Number: 20100915-0209.

Comment Date: 5 p.m. Eastern Time on Wednesday, October 6, 2010.

Docket Numbers: ER10-2697-000.

Applicants: EDFD-C.P. Crane.

Description: EDFD-C.P. Crane submits tariff filing per 35.12: EDFD-C.P. Crane Baseline to be effective 9/16/2010.

Filed Date: 09/16/2010.

Accesstion Number: 20100916-5132.

Comment Date: 5 p.m. Eastern Time on Thursday, October 7, 2010.

Docket Numbers: ER10-2698-000.

Applicants: EDFD-West Valley.

Description: EDFD-West Valley submits tariff filing per 35.12: EDFD-West Valley Baseline to be effective 9/16/2010.

Filed Date: 09/16/2010.

Accesstion Number: 20100916-5134.

Comment Date: 5 p.m. Eastern Time on Thursday, October 7, 2010.

Docket Numbers: ER10-2699-000.

Applicants: Citizens' Electric Company of Lewisburg,

Description: Citizens' Electric Company of Lewisburg, PA submits tariff filing per 35.12: Baseline Tariff Filing to be effective 9/16/2010.

Filed Date: 09/16/2010.

Accesstion Number: 20100916-5141.

Comment Date: 5 p.m. Eastern Time on Thursday, October 7, 2010.

Docket Numbers: ER10-2700-000.

Applicants: Massachusetts Electric Company.

Description: Massachusetts Electric Company submits tariff filing per 35: Massachusetts Electric Compliance Filing of Baseline Market Based Rate Tariff to be effective 9/16/2010.

Filed Date: 09/16/2010.

Accesstion Number: 20100916-5147.

Comment Date: 5 p.m. Eastern Time on Thursday, October 7, 2010.

Docket Numbers: ER10-2701-000.

Applicants: Midwest Independent Transmission System.

Description: Midwest Independent Transmission System Operator, Inc. submits tariff filing per 35: 09-16-10 RAR Compliance to be effective 7/28/2010.

Filed Date: 09/16/2010.

Accesstion Number: 20100916-5156.

Comment Date: 5 p.m. Eastern Time on Thursday, October 7, 2010.

Docket Numbers: ER10-2702-000.

Applicants: PJM Interconnection, LLC.

Description: PJM Interconnection, LLC submits revised interconnection construction service agreement with Evergreen Community Power et al. Part 1 of 2.

Filed Date: 09/16/2010.

Accesstion Number: 20100917-0206.

Comment Date: 5 p.m. Eastern Time on Thursday, October 7, 2010.

Docket Numbers: ER10-2703-000.

Applicants: PJM Interconnection, LLC.

Description: PJM Interconnection, LLC submits revised rate schedule cover sheet to cancel PJM Electric Tariff Rate Schedule FERC No 40, effective 6/1/10.

Filed Date: 09/16/2010.

Accesstion Number: 20100917-0205.

Comment Date: 5 p.m. Eastern Time on Thursday, October 7, 2010.

Docket Numbers: ER10-2704-000.

Applicants: PJM Interconnection, LLC.

Description: PJM Interconnection, LLC submits an executed interim interconnection service agreement with Meadow Lake Wind Farm IV LLC et al.

Filed Date: 09/16/2010.

Accesstion Number: 20100917-0204.

Comment Date: 5 p.m. Eastern Time on Thursday, October 7, 2010.

Docket Numbers: ER10-2705-000.

Applicants: Merchants Plaza Energy, LLC.

Description: Merchants Plaza Energy, LLC submits application for authorization to make wholesale of energy and capacity at negotiated market-based rates.

Filed Date: 09/16/2010.

Accesstion Number: 20100917-0202.

Comment Date: 5 p.m. Eastern Time on Thursday, October 7, 2010.

Docket Numbers: ER10-2706-000.

Applicants: Dennis Energy, Inc.

Description: Dennis Energy, Inc. submits application for authorization to make wholesale of energy and capacity at negotiated market-based rates.

Filed Date: 09/16/2010.

Accesstion Number: 20100917-0203.

Comment Date: 5 p.m. Eastern Time on Thursday, October 7, 2010.

Docket Numbers: ER10-2707-000.

Applicants: Mid-Continent Energy Marketers Association.

Description: Mid-Continent Energy Marketers Association submits tariff filing per 35.12: Baseline Tariff Filing to be effective 9/17/2010.

Filed Date: 09/17/2010.

Accesstion Number: 20100917-5021.

Comment Date: 5 p.m. Eastern Time on Friday, October 8, 2010.

Docket Numbers: ER10-2708-000.

Applicants: Wells Fargo Commodities, LLC.

Description: Wells Fargo Commodities, LLC submits tariff filing per 35.12: Wells Fargo, LLC Market-Based Rate Tariff to be effective 9/17/2010.

Filed Date: 09/17/2010.

Accesstion Number: 20100917-5028.

Comment Date: 5 p.m. Eastern Time on Friday, October 8, 2010.

Docket Numbers: ER10-2709-000.

Applicants: PJM Interconnection, LLC.

Description: PJM Interconnection, LLC submits an executed interim interconnection service agreement and an executed interconnection construction service agreement.

Filed Date: 09/17/2010.

Accesstion Number: 20100917-0209.

Comment Date: 5 p.m. Eastern Time on Friday, October 8, 2010.

Docket Numbers: ER10-2710-000.

Applicants: PJM Interconnection, LLC.

Description: PJM Interconnection, LLC submits tariff filing per 35.12: Intra-PJM tariffs BASELINE—locked down to be effective 9/17/2010.

Filed Date: 09/17/2010.

Accesstion Number: 20100917-5030.

Comment Date: 5 p.m. Eastern Time on Friday, October 8, 2010.

Docket Numbers: ER10-2711-000.

Applicants: PJM Interconnection, LLC.

Description: PJM Interconnection, LLC submits an executed interconnection service agreement and an executed interconnection construction service agreement.

Filed Date: 09/17/2010.

Accesstion Number: 20100917-0208.

Comment Date: 5 p.m. Eastern Time on Friday, October 8, 2010.

Docket Numbers: ER10-2712-000.

Applicants: Cargill Power Markets, LLC.

Description: Cargill Power Markets, LLC submits tariff filing per 35.12: Baseline MBR Tariff Filing of Cargill Power Markets, LLC to be effective 9/17/2010.

Filed Date: 09/17/2010.

Accesstion Number: 20100917-5035.

Comment Date: 5 p.m. Eastern Time on Friday, October 8, 2010.

Docket Numbers: ER10-2713-000.

Applicants: PJM Interconnection, LLC.

Description: PJM Interconnection, LLC submits tariff filing per 35.12: Rate schedules BASELINE—locked down to be effective 9/17/2010.

Filed Date: 09/17/2010.

Accesstion Number: 20100917-5036.

Comment Date: 5 p.m. Eastern Time on Friday, October 8, 2010.

Docket Numbers: ER10-2714-000.

Applicants: Carolina Power & Light Company.

Description: Notice of Cancellation of Rate Schedule No. 171 of Carolina Power & Light Company.

Filed Date: 09/17/2010.

Accesstion Number: 20100917-5038.

Comment Date: 5 p.m. Eastern Time on Friday, October 8, 2010.

Docket Numbers: ER10-2715-000.

Applicants: PJM Interconnection, LLC.

Description: PJM Interconnection, LLC submits tariff filing per 35.12: PJM Service Agreement Baseline Filing to be effective 9/17/2010.

Filed Date: 09/17/2010.

Accesstion Number: 20100917-5044.

Comment Date: 5 p.m. Eastern Time on Friday, October 8, 2010.

Docket Numbers: ER10-2716-000.

Applicants: Wellsboro Electric Company.

Description: Wellsboro Electric Company submits tariff filing per 35.12: Baseline Tariff Filing to be effective 9/17/2010.

Filed Date: 09/17/2010.

Accesstion Number: 20100917-5045.

Comment Date: 5 p.m. Eastern Time on Friday, October 8, 2010.

Docket Numbers: ER10-2717-000.

Applicants: EFS Parlin Holdings, LLC.

Description: EFS Parlin Holdings, LLC submits tariff filing per 35.12: Baseline Filing for EFSPH Market Based Rate Tariff to be effective 9/17/2010.

Filed Date: 09/17/2010.

Accesstion Number: 20100917-5048.

Comment Date: 5 p.m. Eastern Time on Friday, October 8, 2010.

Docket Numbers: ER10-2718-000.

Applicants: Cogen Technologies Linden Venture, L.P.

Description: Cogen Technologies Linden Venture, L.P. submits tariff filing per 35.12: Baseline Filing for CTLV Market Based Rate Tariff to be effective 9/17/2010.

Filed Date: 09/17/2010.

Accesstion Number: 20100917-5049.

Comment Date: 5 p.m. Eastern Time on Friday, October 8, 2010.

Docket Numbers: ER10-2719-000.

Applicants: East Coast Power Linden Holding, LLC.

Description: East Coast Power Linden Holding, LLC submits tariff filing per 35.12: Baseline Filing for ECPLH Market Based Rate Tariff to be effective 9/17/2010.

Filed Date: 09/17/2010.

Accesstion Number: 20100917-5050.

Comment Date: 5 p.m. Eastern Time on Friday, October 8, 2010.

Docket Numbers: ER10-2720-000.

Applicants: Minco Wind, LLC.

Description: Minco Wind, LLC submits tariff filing per 35.12: Minco Wind, LLC MBR Tariff Filing to be effective 11/1/2010.

Filed Date: 09/17/2010.

Accesstion Number: 20100917-5051.

Comment Date: 5 p.m. Eastern Time on Friday, October 8, 2010.

Docket Numbers: ER10-2721-000.

Applicants: El Paso Electric Company.

Description: El Paso Electric Company submits tariff filing per 35.12: Baseline Filing of Market-Based Rate Tariff to be effective 9/17/2010.

Filed Date: 09/17/2010.

Accesstion Number: 20100917-5053.

Comment Date: 5 p.m. Eastern Time on Friday, October 8, 2010.

Docket Numbers: ER10-2722-000.

Applicants: Eurus Combine Hills I LLC.

Description: Eurus Combine Hills I LLC submits tariff filing per 35.12: Baseline Electric Market-Based Rates to be effective 9/17/2010.

Filed Date: 09/17/2010.

Accesstion Number: 20100917-5054.

Comment Date: 5 p.m. Eastern Time on Friday, October 8, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-24087 Filed 9-24-10; 8:45 am]

BILLING CODE 6717-01-P